DEPARTMENT OF THE TREASURY

Departmental Offices; Renewal of the Treasury Borrowing Committee of the Bond Market Association

ACTION: Notice of renewal.

SUMMARY: In accordance with the Federal Advisory Committee Act, as amended Pub. L. 92-463; 5 U.S.C. App. 2), with the concurrence of the General Services Administration, the Secretary of the Treasury has determined that renewal of the Treasury Borrowing Advisory Committee of The Bond Market Association (the “Committee”) is necessary and in the public interest in connection with the performance of duties imposed on the Department of the Treasury by law.

EFFECTIVE DATE: July 13, 2003.

FOR FURTHER INFORMATION CONTACT: Jeff Huther, Deputy Director, Office of Market Finance, (202) 622-2630.

SUPPLEMENTARY INFORMATION: The purpose of the Committee is to provide informed advice as representatives of the financial community to the Secretary of the Treasury and Treasury staff, upon the Secretary of the Treasury's request, in carrying out Treasury responsibilities for federal financing and public debt management.

The Committee meets to consider special items on which its advice is sought pertaining to immediate Treasury funding requirements and pertaining to longer term approaches to manage the national debt in a cost-effective manner. The Committee usually meets immediately before the Treasury announces each mid-calendar quarter funding operation, although special meetings also may be held.

Membership consists of 20-25 individuals who are experts in the government securities market and who are involved in senior positions in debt markets as institutional investors, investment advisors, or as dealers in government securities.

The Designated Federal Official for the Advisory Committee is the Associate Director of the Office of Market Finance, reporting through the Assistant Secretary for Financial Markets. The Treasury Department filed copies of the Committee's renewal charter with appropriate committees in Congress.

Dated: July 21, 2003.
Brian C. Roseboro,
Assistant Secretary, Financial Markets.

[FR Doc. 03-18929 Filed 7-24-03; 8:45 am]

BILLING CODE 4810-25-M